POSTAL SERVICE

39 CFR Part 111

Commercial Mail Receiving Agencies

AGENCY: Postal Service™.

ACTION: Final rule.

SUMMARY: The Postal Service is revising Mailing Standards of the United States Postal Service, Domestic Mail Manual (DMM®) to update the regulations concerning Commercial Mail Receiving Agencies (CMRAs).

DATES: Effective July 1, 2023.

FOR FURTHER INFORMATION CONTACT: Judi Mummy at (858) 674-3155, Clayton Gerber at (202) 449-8076, or Garry Rodriguez at (202) 268-7281.

SUPPLEMENTARY INFORMATION: On January 12, 2023, the Postal Service published a notice of proposed rulemaking (88 FR 2047-2049) to revise subsection 508.1.8 by reorganizing and revising the subsections in 508.1.8. The proposed rule included changes to accommodate the development of an electronic database to collect and manage the information collected on PS Form 1583, Application for Delivery of Mail Through Agent, which has been collected and maintained as paper records. In this final rule, the Postal Service is adopting the proposed rule with three minor changes described below. As part of the final rule, CMRAs will receive direct notification from the Postal Service informing them how to gain access to the CMRA Customer Registration Database (CRD). Following notification, the CMRA will have a period of approximately 9 months to collect and enter into the CRD new PS Form 1583s for each of their existing Private Mailbox (PMB) customers. PS Form 1583 applications for new PMB customers must be entered into the new CMRA CRD when they are received.

Below are high-level summaries of the changes made to the proposed rule in this final rule:

• DMM section 1.8.2.f will prohibit PMBs from being used for unlawful activity similar to the provisions that apply to P.O. Boxes.

• CMRAs will be permitted to dispose of copies of identification documents after they upload them into the CMRA CRD.

• It is sufficient for a CMRAs to maintain a digital copy of each signed PS Form 1583 in lieu of a paper form.

Response to Comments

The Postal Service received 26 responses to the notice of proposed rulemaking, several of which included comments on multiple topics. Commenters included CMRAs, associations, and individual consumers. Comments and Postal Service responses are summarized as follows.

Comment: Several commenters recognized that the new online CMRA CRD will solve the cumbersome and outdated paper-based submission and filing system with the current PS Form 1583—Application for Delivery of Mail Through Agent.

Response: The Postal Service shares this assessment and expects that changes will significantly improve accuracy, security, record keeping, and delivery service.

Comment: Several comments indicating that the changes are not possible because the current PS Form 1583 either contradicts the new DMM changes or does not collect the information articulated in the DMM changes.

Response: These comments assume PS Form 1583 will not be changed; however, the Postal Service has updated the PS Form 1583 to be consistent with the DMM changes and new CMRA CRD and will be making the new form available in conjunction with this final rule. The revised Form is available to the public at https://about.usps.com/resources/forms.htm.

Comment: Several commenters expressed concerns about compliance with privacy laws as well as 18 United States Code 701 relating to the copying of government identification cards. Additionally, we have been asked to limit or clarify what the Postal Service may use the information we collect in the CMRA CRD for.

Response: The final rule is not inconsistent with 18 U.S.C. 701, which provides that copies may be made as “authorized under regulations made pursuant to law.” The CMRA regulations set forth in the DMM are Postal Service regulations and incorporated by reference in the Code of Federal Regulations in accordance with 39 CFR parts 111 and 211. The DMM's identification photocopying requirement falls within the exception recognized by § 701 for copying that is “authorized under regulations made pursuant to law.”

The Postal Service, as an independent establishment of the Executive Branch, complies with the Privacy Act of 1974. Under the Privacy Act, the Postal Service is permitted to collect Privacy Act protected information, including copies of government identification cards retrievable by individual identifier, in a Privacy Act system of records. Records pertaining to CMRAs fall within the scope of the Postal Service Privacy Act customer systems of records found in USPS SOR 845.000, Commercial Mail Receiving Agency, in Appendix E to USPS Handbook AS-353. Changes to USPS SOR 845.000 were recently published in the Federal Register so as to facilitate the changes in practice reflected in this final rule at 87 FR 79005 (https://www.federalregister.gov/documents/2022/12/23/2022-27992/notice-of-new-system-of-records-response-to-comments).

Comment: Several commenters asked about the forms of identification that are acceptable to present when opening a PMB at a CMRA, mentioning corporate identifications and utility bills, among other forms.

Response: The Postal Service updated the acceptable forms of identification for its various services in a prior DMM update published in the Postal Bulletin No. 22613 (https://about.usps.com/postal-bulletin/2022/pb22613/html/updt_001.htm). Only those specifically enumerated forms of identification are acceptable. Corporate identification cards and utility bills are no longer acceptable forms of identification for completing PS Form 1583A Application to Act as a Commercial Mail Receiving Agency and PS Form 1583—Application for Delivery of Mail Through Agent.

Comment: Several commenters questioned why the identification document presented must be current (not expired), additionally noting that most address verification documents do not have expiration dates.

Response: The Postal Service relies on government agencies to establish and maintain identification document protocols and standards, which change over time. Collection of non-expired identifications ensures the most reliable means of establishing that the person presenting themselves for service is who they claim to be. Current non-expiring documents, such as most of the address verification documents that match the address shown on the application satisfy the address identification requirement.

Comment: One commenter asking if a State Driver's License could serve as an acceptable secondary (address) identification.

Response: A driver's license could be a secondary form of identification, but an application would still need to be supported by separate form of primary (photo) identification. For example: a Passport could be an acceptable primary identification and a Driver's License could be an acceptable secondary form. See DMM 608.10 for acceptable forms of primary and secondary identifications.

Comment: Several commenters asked if a CMRA needed to update expired photo identification documents for PMBs that have closed and are in the 6 month remail period.

Response: No, CMRAs will not need to update expired documents for closed PMBs.

Comment: One commenter asked what identification is collected when the addressee is a business/organization.

Response: The applicant on PS Form 1583 is always an individual and they must provide their primary and secondary forms of identification. If the mail received is to be addressed to a business/organization, the applicant must also list the name and address of the business/organization as well as the place (county and state or country) where the business/organization is registered.

Comment: Several commenters asked how a CMRA could certify that its PS Form 1583s on file are all current with no expired photo identification documents each quarter without reviewing each entry.

Response: In the new system, the CMRA CRD will automatically notify the CMRA when a photo identification document entered has expired so the CMRA may provide notice to their customer to collect a current copy.

Comment: Several commenters asked why a CMRA must remail PMB customers' mail for a period of 6 month after the termination date of their agency relationship.

Response: These comments are not within scope of the current rulemaking. Remailing PMB customers' mail is already specified in DMM section 1.8.3b: “The CMRA must remail mail intended for the addressee (customer) for at least 6 months after the termination date of the agency relationship between the CMRA and addressee.”

Comment: Several commenters asked that the Postal Service apply the same prohibitory language to PMBs as is applied to Post Office Boxes insofar as suspected criminal activity in concerned. Commenters also asked what CMRAs should do when they identify suspected criminal activity associated with a PMB holder.

Response: The Postal Service has taken these comments into consideration and is revising DMM section 1.8.2.f so as to make the prohibitions apply consistently to both Private Mail Boxes (PMBs) and P.O. Boxes, as follows:

Unlawful Activity—A PMB may not be used for, or in connection with, a scheme or enterprise that violates any federal, state, or local law; breaches an agreement with a federal, state, or local agency whereby the box customer has agreed to discontinue a specified activity; or violates or attempts to evade any order of a court or administrative body.

Additionally, the new CMRA CRD will have a mechanism to enable CMRA owners/managers to confidentially report suspicious activity related to a PMB directly to the Postal Inspection Service.

Comment: Several commenters asked why a CMRA owner/manager must complete a PS Form 1583 for themselves.

Response: This measure is being undertaken to enhance security. The local post office will no longer retain copies of photo and address identification documents. The documents will instead be uploaded and securely maintained in the CMRA CRD. Although the CMRA owner/manager will be subject to in person identification proofing, additional measures are needed in order to retain these identification documents so that automated means can ensure they are current and updated as required.

Comment: Several commenters asked about the proposed rule that states “If information on the application does not match the identification, the CMRA must deny the application.” Specifically, the commenters cited situations where a PMB applicant is new to an area and may not have new Identification or address documents.

Response: The CMRA is required to ensure the individuals presenting themselves as an applicant for a PMB or individuals authorized to collect mail from a PMB are correctly identifying themselves. This means their primary (photo) identification documents must be acceptable, non-expired, photo identification documents and the information on those photo identification documents must be entered into the CMRA CRD and a clear and readable copy of those identification documents must be uploaded into the CRD so the Postal Service may verify the information is correct as entered. For PMB applicants new to an area, they may use their primary (photo) identification documents from before their move. They may also update their primary (photo) identification documents at any time. They must update them when they expire. For address verification, the applicant must list the address on the application that matches the acceptable secondary (address) identification document provided. This may be an address identification document from a prior address, e.g., if the applicant has moved to a new area. The individuals may update their secondary (address) identification documents at any time.

Comment: Several commenters inquired about the requirement to provide the address, physical or digital, where mail is transferred or remailed on behalf of the PMB holder, either during the period of the PMB lease or during the six-month period after the box lease has ended.

Response: The PMB holder is a Postal Service customer receiving mail via the U.S. Mail. The Postal Service has a business and service need to ensure its customers are receiving their mail, even if through an agent. The information is required for contingencies such as when the CMRA goes out of business or fails to deliver mail to the customer as directed. This is not a new practice because the existing PS Form 1583 requires the CMRA to report the address where mail is transferred or otherwise remailed upon request. As customer service and security enhancements, the final rule requires that information be entered into the CMRA CRD and be updated at any time if the address for remailing changes.

Comment: Several commenters asked about the rule requiring CMRAs to accept all classes of mail on behalf of PMB holders. Specifically, the commenters questioned the removal of a special designation for restricted delivery and asked about COD mail.

Response: Prior to this rule change, the only class of mail that was treated uniquely was restricted delivery mail. The prior rule allowed the PMB holder to specifically sign PS Form 1583 authorizing the CMRA to receive restricted delivery mail. If this portion of PS Form 1583 was not signed, the Postal Service was not supposed to deliver restricted delivery mail to that specific PMB. That rule has been an unworkable solution. The Postal Service provides single point delivery to a CMRA and the letter carrier delivering the mail to the CMRA has no knowledge or access to PS Form 1583s submitted for the PMB holders and has no way to know if a piece of Restricted Mail should be withheld from delivery. Therefore, the final rule clarifies that a PMB holder will receive all mail via the CMRA address, including restricted delivery. There was previously no exemption for COD mail, so the final rule makes no change with respect to treatment of COD mail.

Comment: Several commenters asked about the implementation date of these changes and the time period to begin using the CMRA CRD as well as the time period to enter all PMB applicants in the CMRA CRD.

Response: To coincide with other changes to the DMM, these final rules will go into effect on July 9, 2023. Each CMRA will receive direct notice, via physical mail, from the Postal Service with instructions on how to access and enter PS Form 1583 data and documents into the CMRA CRD. Once the CMRA receives this direct notice, they will be able to enter all the PS Form 1583 data into the application. Existing PMB customers will need to complete a new PS Form 1583 and provide copies of their identification documents. CMRAs will have a period of nine (9) months to complete the task of migrating all existing PMB customers to the new form and application.

Comment: One commentor questioned whether existing spouses who both are currently listed on a single PS Form 1583 could be “grandfathered in” and not complete a new 1583 for each.

Response: A new PS Form 1583 will need to be completed for every PMB customer. Each spouse must complete a separate PS Form 1583. In order for the Postal Service to optimize the security benefits of the new system, all customers (including spouses) are required to complete a new PS Form 1583.

Comment: One commenter stated that CMRAs lack the physical security to ensure the protection of copies of photo and address identification documents provided by PMB customers and asked if the CMRA could elect to not retain a copy of the identification documents after they upload them into the CMRA CRD to mitigate the risk of theft or loss.

Response: The Postal Service appreciates this concern. Upon further consideration, the final rule has been revised to accommodate this suggestion. Specifically, the final rule has been changed so that the CMRA has the option to dispose of copies of the identification documents after they are uploaded into the CMRA CRD. In such cases, CMRAs will have to collect a replacement copy and upload it if, upon review, the copy that has been uploaded is not legible or readable.

Comment: One commenter asked if a CMRA could retain a digital copy of each completed PS Form 1583 in lieu of the original signed paper copy.

Response: The Postal Service agrees that it is sufficient for the CMRA to retain a digital copy of each completed PS Form 1583 in lieu of the original signed paper copy. The final rule has been revised accordingly.

Comment: Several commenters stated that the proposed rule specifying CMRAs have 30 days to comply with deficiencies after being notified by the Postal Service is an undue burden.

Response: The prior requirement was open ended and lacked specificity. The Postal Service submits that specifying a prescribed time period enhances predictability and promotes economy of administration for both the CMRA and the Postal Service.

Comment: Several commenters asked the Postal Service to provide for the receipt of the PS Form 1583 data and documents via an electronic transfer such as an Application Process Interface (API).

Response: The Postal Service is exploring the option of allowing an API process to upload these data. Such a facility would not be available in the first year; however, as it will require significant technical data definitions that the CMRA industry will have to match to correctly push the data.

Comment: Several commenters asked the Postal Service to create an online version of the PS Form 1583 that would allow PMB customers to complete the application online.

Response: Given the relationship between the CMRA and the PMB applicant and the need for in person identity proofing, the Postal Service determined to maintain the in-person application process between the CMRA and its customer.

Comment: One commenter asked whether the Postal Service would respond to law enforcement subpoenas served on CMRAs for PMB holder's data.

Response: The Postal Service will not respond to subpoenas addressed to a CMRA. Subpoenas addressed to a CMRA are the responsibility of the CMRA. The CMRA would normally respond to subpoena issued to the CMRA in so far as the records of the CMRA are sought. The Postal Service responds to court orders and subpoenas directed to the Postal Service and when legally required to do so.

Comment: One commenter asked if the Postal Service would provide the tools and software to scan identification documents.

Response: The Postal Service will not be providing the equipment necessary to scan identifications. The CMRA CRD will require a computer connected to the internet to access the database and will require CMRAs to be able to take digital pictures or scans that they can upload via the web-based application. None of the above will require unique or specialized equipment and is equipment commonly used by CMRAs.

Comment: One commenter asked the Postal Service to endorse a digital identity verification process, in addition to employee-facilitated verification, sufficient to meet the verification process for an individual seeking to be listed on PS Form 1583.

Response: The Postal Service requires either that:

• The PS Form 1583 be notarized, or

• The applicant's identity be verified in person by a CMRA employee.

Current subsections 1.8.1 through 1.8.4 will be renumbered as subsections 1.8.2 through 1.8.5. New subsection 508.1.8.1 will define what type of business is considered a CMRA and therefore must comply with the requirements in this section. The definitions are based on the type of service the business entity receives from the Postal Service. If an entity receives U.S. Mail for multiple customers and receives single point mail delivery from the Postal Service, it is considered a CMRA for purposes of complying with these requirements. There will be three specifically defined entities that must register as a CMRA and comply with these requirements: a CMRA that provides private mail boxes and accepts delivery of mail on behalf of another; an office business center (OBC) that provides private office facilities for others and receives single-point mail delivery from the Postal Service; and a reshipping or redelivery service that accepts delivery of mail on behalf of another for the purpose of reshipping or redelivering that mail either physically or electronically.

Renumbered subsection 1.8.2, Procedures, will be revised to require a CMRA owner must apply to operate a CMRA by submitting a completed PS Form 1583-A, Application to Act as a Commercial Mail Receiving Agency, and presenting acceptable, and not expired, form of Identification to the Post Office for review. If any of the information on PS Form 1583-A changes over time or becomes expired, the CMRA owner must submit an updated form to the Postal Service. The Postal Service will be scanning and uploading this form to the Postal Service's Facilities Database (FDB). The Postal Service will add a new item 1.8.2e to provide notice that CMRAs not in compliance with these regulations could be suspended and that CMRAs will have 30 days to come into compliance, and a new item 1.8.2f to affirmatively state that private mailboxes (PMBs) may not be used for unlawful activity.

Renumbered subsection 1.8.3, Delivery to a CMRA, will be revised to specify requirements related to PS Form 1583, Application for Delivery of Mail Through Agent, necessary with the implementation of the new CMRA Customer Registration Database. Item 1.8.3a will be revised to specify that a CMRA owner or manager will have to complete and submit a PS Form 1583 form themselves. Further, it will specify that spouses must each complete a separate PS Form 1583 if they both choose to receive mail at a single PMB address. The Postal Service is also specifying that the name and address information submitted on PS Form 1583 must match the photo and address verification documents provided with the application or the application will be rejected. Identification documents must be current (not expired). Any changes to the information on a PS Form 1583 will require the submission of a new PS Form 1583. Item 1.8.3c will be revised to specify that CMRA owners or managers will be required to enter the data from PS Form 1583 and upload copies of the supporting documents into the Postal Service's electronic CMRA Customer Registration Database rather than provide paper copies to their local Post Office. Item 1.8.3h will be revised to specify that CMRA owners or managers must enter the date PMBs close into the CMRA Customer Registration Database and that any expired, illegible, or unclear documents are not acceptable and will not be considered in compliance. Item 1.8.3i will be revised to specify that CMRA owners or manager must certify the information they submitted in the CMRA Customer Registration Database is current each quarter, with certifications due 15 days after the end of each quarter. Item 1.8.3j will be revised to specify that CMRAs will have 30 days to comply with deficiencies that are identified by the Postal Service. The Postal Service is adding a new item 1.8.3l to specify that the CMRA may be directed by the Chief Postal Inspector to withhold mail from delivery to an individual PMB and return that mail to the Postal Service.

Renumbered subsection 1.8.4, Addressee and CMRA Agreement, will be updated to describe the procedures when the relationship between a CMRA and PMB holder end. Item 1.8.4a will be revised to specify that CMRA owners or managers must record when a PMB closes, enter that date in the CMRA Customer Registration Database, and that they must maintain their records for six months after the PMB is closed. Item 1.8.4b will be revised to specify that if a CMRA reships, or otherwise re-mails the mail addressed to a PMB, whether physically or electronically, the CMRA must record on PS Form 1583 and in the CMRA Customer Registration Database the address to where they reship, remail or transmit the customer's mail. Additionally, if the mail is physically collected during the time period the PMB is active but remailed for the six month period after the PMB is closed, the remail address needs to be entered into the CMRA Customer Registration Database. Renumbered item 1.8.4d will be deleted as it is addressed in the revisions described above and item 1.8.4e will be deleted as to a separate provision for Restricted Mail, completion of a PS Form 1583 provides for an agent to receive all classes of mail. Items 1.8.4f and 1.8.4g will be renumbered as 1.8.4d and 1.8.4e.

The Postal Service is deleting renumbered 1.8.5, Office Business Center Acting as a CMRA, since office business centers (OBCs) are defined as CMRAs for purposes of this regulation as specified in new subsection 1.8.1, Commercial Mail Receiving Agency.

We believe this proposed revision will provide customers with a more efficient process for establishing a CMRA.

The Postal Service adopts the following changes to Mailing Standards of the United States Postal Service, Domestic Mail Manual (DMM), incorporated by reference in the Code of Federal Regulations. See 39 CFR 111.1.

We will publish an appropriate amendment to 39 CFR part 111 to reflect these changes.

List of Subjects in 39 CFR Part 111

Administrative practice and procedure, Postal Service.

Accordingly, 39 CFR part 111 is amended as follows:

PART 111—[AMENDED]

1. The authority citation for 39 CFR part 111 continues to read as follows:

Authority: 5 U.S.C. 552(a); 13 U.S.C. 301-307; 18 U.S.C. 1692-1737; 39 U.S.C. 101, 401-404, 414, 416, 3001-3018, 3201-3220, 3401-3406, 3621, 3622, 3626, 3629, 3631-3633, 3641, 3681-3685, and 5001.

2. Revise the Mailing Standards of the United States Postal Service, Domestic Mail Manual (DMM) as follows:

Mailing Standards of the United States Postal Service, Domestic Mail Manual (DMM)

* * * * *

500 Additional Mailing Services

* * * * *

508 Recipient Services

1.0 Recipient Options

* * * * *

1.8 Commercial Mail Receiving Agencies

[Renumber 1.8.1 through 1.8.4 as 1.8.2 through 1.8.5 and add new 1.8.1 to read as follows:]

1.8.1 Commercial Mail Receiving Agency

The definition of a Commercial Mail Receiving Agency is as follows:

a. A Commercial Mail Receiving Agency (CMRA) is defined as a business that, in whole or in part, accepts the delivery of U.S. Mail on behalf of another person or entity as a business service. U.S. Mail is inclusive of all classes of mail.

b. An office business center (OBC) is a business that operates primarily to provide private office facilities and other business support services to individuals or firms (customers). OBCs receive single-point delivery. OBCs are considered CMRAs for postal purposes and must comply with DMM 508.1.8.

c. A business or individual that operates primarily to provide re-shipping or re-delivery services to individuals or firms (customers) is considered a CMRA for postal purposes and must comply with DMM 508.1.8.

1.8.2 Procedures

The procedures for establishing a commercial mail receiving agency (CMRA) are as follows:

* * * * *

b.

* * * * *

[Revise the second paragraph under renumbered item 1.8.2b to read as follows:]

The CMRA owner or manager must present acceptable primary and secondary forms of identification as specified under 608.10.0. The identifications presented must be current (not expired). These identifications must contain sufficient information to confirm that the applicant is who he or she claims to be and is traceable to the bearer. The postmaster (or designee) must list and record sufficient information to identify the two acceptable forms of identification on PS Form 1583-A (block 10).

[Revise the second sentence of the third paragraph under renumbered item 1.8.2b to read as follows:]

* * * If any information required on PS Form 1583-A changes, the CMRA owner or manager must file a new application with the postmaster.

[Revise the text of renumbered item 1.8.2c to read as follows:]

c. The postmaster (or designee) must verify the documentation to confirm that the CMRA owner or manager resides at the permanent home address shown on Form 1583-A; witness the signature of the CMRA owner or manager; and sign Form 1583-A. The postmaster must provide the CMRA owner or manager with a copy of the DMM regulations relevant to the operation of a CMRA under 1.8. The CMRA owner or manager must sign the Form 1583-A acknowledging receipt of the regulations. The postmaster must file the original of the completed Form 1583-A at the Post Office, scan and upload a copy into the Facilities Database (FDB) and provide the CMRA with a duplicate copy.

* * * * *

[Revise the text of renumbered 1.8.2 by adding a new item e and f to read as follows:]

e. CMRAs found not to be operating within the Postal Service regulations will be suspended from authorization to act as a CMRA until the CMRA is in compliance with the regulations. If compliance is not achieved within 30 days, the Postal Service may terminate the CMRA's authorization to accept mail on behalf of others.

f. Unlawful Activity—A Private Mail Box (PMB) may not be used for, or in connection with, a scheme or enterprise that violates any federal, state, or local law; breaches an agreement with a federal, state, or local agency whereby the box customer has agreed to discontinue a specified activity; or violates or attempts to evade any order of a court or administrative body.

1.8.3 Delivery to CMRA

Procedures for delivery to a CMRA are as follows:

[Revise the text of paragraphs one and two under renumbered item 1.8.3a to read as follows:]

a. Mail delivery to a CMRA requires that the CMRA owner or manager complete and sign PS Form 1583, Application for Delivery of Mail Through Agent, for themselves. Private Mail Boxes (PMBs) for residential/personal use must have a separate PS Form 1583 completed for each addressee. Spouses must each complete and sign a separate PS Form 1583. Each spouse must provide acceptable primary and secondary forms of identification as specified under 608.10.0.

A parent or guardian may receive delivery of a minor's mail by listing the name(s) of each minor on PS Form 1583 (block 11).

* * * * *

[Revise the text in the fourth and fifth paragraph under renumbered item 1.8.3a by combining the text into the fourth paragraph to read as follows:]

If information on the application does not match the identification, the CMRA must deny the application. Furnishing false information on the application or refusing to provide required information is reason for withholding the addressee's mail from delivery to the agent and returning it to the sender.

[Revise the text of the renumbered fifth and sixth paragraphs under renumbered item 1.8.3a to read as follows:]

When any information required on PS Form 1583 changes, the addressee must complete a new application with the CMRA. The addressee must provide acceptable primary and secondary forms of identification as specified under 608.10.0. The identification presented must be current (not expired). It must contain sufficient information to confirm that the applicant is who he or she claims to be and is traceable to the bearer.

The CMRA owner or manager must list and record on PS Form 1583 (block 10) sufficient information to identify the acceptable primary and secondary forms of identification presented and write on PS Form 1583 (block 4) the complete CMRA delivery address used to deliver mail to the addressee.

* * * * *

[Revise the text of renumbered item 1.8.3c to read as follows:]

c. c. The CMRA must enter the information provided on each PS Form 1583 and upload a clear and legible copy of each identification document into the USPS CMRA Customer Registration Database (CRD). The CMRA must maintain, at a minimum, a digital copy of a completed PS Form 1583 at the CMRA business location. The PS Form 1583 must be available at all times for examination by postal representatives and postal inspectors. Images of the primary and secondary forms of identification do not need to be retained at the CMRA after they are uploaded into the CMRA Customer Registration Database. If, upon review by the Postal Service the image uploaded is not clear and legible, the CMRA will be notified to promptly collect and upload a replacement image.

[Delete renumbered item 1.8.3d and renumber items e through j as items d through i.]

* * * * *

[Renumber renumbered items h and i as items j and k and add new items h and i to read as follows:]

h. The CMRA must ensure all its addressees (customers) have a current PS Form 1583 on file and updated as necessary in the USPS CMRA Customer Registration Database. Updates shall include the entry of termination dates for any PMBs closed in the previous quarter. Any expired, illegible, or unclear identification or address document uploaded into the CMRA Customer Registration Database shall be considered not in compliance.

i. The CMRA must certify in the USPS CMRA Customer Registration Database each quarter (due on January 15th, April 15th, July 15th, and October 15th), that every PS Forms 1583 it has submitted is current, all termination dates have been updated and no identification documents are expired.

[Revise the last sentence of renumbered item j to read as follows:]

j. * * * The proper notification must be in writing outlining the specific violation(s) with a 30-day period to comply.

* * * * *

[Revise the text of 1.8.3 by adding a new item l to read as follows:]

l. The Chief Postal Inspector or their designee may issue an emergency mail withholding order to withhold mail to any PMB Holder that is suspected of utilizing a CMRA and/or PMB for any activity that is in violation of United States Code Title 18 or Title 39 and that the mail be returned to sender, forwarded to the mail recovery center, or otherwise in accordance with a court order. The CMRA must give the mail addressed to the withheld PMB to the letter carrier or return it to the Post Office responsible for delivery to the CMRA the next business day after receipt.

1.8.4 Addressee and CMRA Agreement

In delivery of the mail to the CMRA, the addressee and the CMRA agree that:

[Revise the text of renumbered 1.8.4a by adding new second through fifth sentences to read as follows:]

a. * * * The CMRA must write the date of termination on its copy of PS Form 1583. The CMRA must enter the date of termination in the USPS CMRA Customer Registration Database as soon as practical. The CMRA must retain the endorsed copies of PS Forms 1583 for 6 months after the termination date. PS Forms 1583 filed at the CMRA business location must be available at all times for examination by postal representatives and the postal inspectors.

[Revise the text of item b by adding a new second through sixth sentences to read as follows:]

* * * The remail of mail intended for the addressee (customer) is the responsibility of the CMRA. This includes at least a 6-month period after the termination date of the agency relationship between the CMRA and the addressee. The addressee (customer) shall provide the remail address (or email if correspondence is scanned for digital delivery) on PS Form 1583. The remail address shall be entered into the USPS CMRA Customer Registration Database. If the addressee collects their mail in person at the CMRA but elects to have their mail remailed for the 6-month post-termination period, the CMRA shall record this remail address on their copy of PS Form 1583 and enter this remail address in the USPS CMRA Customer Registration Database with the date of termination. * * *

* * * * *

[Revise the text of renumbered 1.8.4 by deleting item d and renumbering items e through g as items d through f.]

[Revise the text of renumbered item d by deleting the second and third sentences.]

* * * * *

[Deleted renumbered 1.8.5, Office Business Center Acting as a CMRA, in its entirety.]

* * * * *

Sarah Sullivan,
Attorney, Ethics and Legal Compliance.

[FR Doc. 2023-10536 Filed 5-18-23; 8:45 am]

BILLING CODE P